DEPARTMENT OF TRANSPORTATION

Federal Highway Administration

[FHWA Docket No. FHWA-2019-0032]

Surface Transportation Project Delivery Program; Alaska Department of Transportation Second Audit Report

AGENCY: Federal Highway Administration (FHWA), U.S. Department of Transportation (DOT).

ACTION: Notice; request for comment.

SUMMARY: The Moving Ahead for Progress in the 21st Century Act (MAP-21) established the Surface Transportation Project Delivery Program that allows a State to assume FHWA's environmental responsibilities for environmental review, consultation, and compliance under the National Environmental Policy Act (NEPA) for Federal highway projects. When a State assumes these Federal responsibilities, the State becomes solely responsible and liable for carrying out the responsibilities it has assumed, in lieu of FHWA. This program mandates annual audits during each of the first 4 years of State participation to ensure compliance with program requirements. This notice announces and solicits comments on the second audit report for the Alaska Department of Transportation and Public Facilities (DOT&PF).

DATES: Comments must be received on or before March 13, 2020.

ADDRESSES: Mail or hand deliver comments to Docket Management Facility: U.S. Department of Transportation, 1200 New Jersey Avenue SE, Room W12-140, Washington, DC 20590. You may also submit comments electronically at www.regulations.gov. All comments should include the docket number that appears in the heading of this document. All comments received will be available for examination and copying at the above address from 9 a.m. to 5 p.m., e.t., Monday through Friday, except Federal holidays. Those desiring notification of receipt of comments must include a self-addressed, stamped postcard or you may print the acknowledgment page that appears after submitting comments electronically. Anyone can search the electronic form of all comments in any of our dockets by the name of the individual submitting the comment (or signing the comment, if submitted on behalf of an association, business, or labor union). The DOT posts these comments, without edits, including any personal information the commenter provides, to www.regulations.gov, as described in the system of records notice (DOT/ALL-14 FDMS), which can be reviewed at www.dot.gov/privacy.

FOR FURTHER INFORMATION CONTACT: Mr. Jomar Maldonado, Office of Project Development and Environmental Review, (202) 366-1598, Jomar.Maldonado@dot.gov, or Mr. David Sett, Office of the Chief Counsel, (404) 562-3676, David.Sett@dot.gov, Federal Highway Administration, U.S. Department of Transportation, 60 Forsyth Street, 8M5, Atlanta, GA 30303. Office hours are from 8:00 a.m. to 4:30 p.m., e.t., Monday through Friday, except Federal holidays.

SUPPLEMENTARY INFORMATION:

Electronic Access

An electronic copy of this notice may be downloaded from the specific docket page at www.regulations.gov.

Background

The Surface Transportation Project Delivery Program, codified at 23 U.S.C. 327, commonly known as the NEPA Assignment Program, allows a State to assume FHWA's environmental responsibilities for review, consultation, and compliance for Federal highway projects. When a State assumes these Federal responsibilities, the State becomes solely liable for carrying out the responsibilities it has assumed, in lieu of FHWA. The DOT&PF published its application for NEPA assumption on May 1, 2016, and made it available for public comment for 30 days. After considering public comments, DOT&PF submitted its application to FHWA on July 12, 2016. The application served as the basis for developing a memorandum of understanding (MOU) that identified the responsibilities and obligations that DOT&PF would assume. The FHWA published a notice of the draft MOU in the Federal Register on August 25, 2017, with a 30-day comment period to solicit the views of the public and Federal agencies. After the close of the comment period, FHWA and DOT&PF considered comments and proceeded to execute the MOU. Effective November 13, 2017, DOT&PF assumed FHWA's responsibilities under NEPA, and the responsibilities for NEPA-related Federal environmental laws described in the MOU.

Section 327(g) of title 23, U.S.C., requires the Secretary to conduct annual audits to ensure compliance with the MOU during each of the first 4 years of State participation and, after the fourth year, monitor compliance. The FHWA must make the results of each audit available for public comment. The first audit report of DOT&PF compliance was finalized on February 5, 2019. This notice announces the availability of the second audit report for DOT&PF and solicits public comment on the same.

Authority: Section 1313 of Public Law 112-141; Section 6005 of Public Law 109-59; 23 U.S.C 327; 23 CFR 773.

Issued on: February 6, 2020.
Nicole R. Nason,
Administrator, Federal Highway Administration.

Surface Transportation Project Delivery Program, FHWA Audit of the Alaska Department of Transportation

April 15-19, 2019

Executive Summary

This report summarizes the results of the Federal Highway Administration's (FHWA) second audit of the Alaska Department of Transportation and Public Facilities' (DOT&PF) assumption of FHWA's project-level National Environmental Policy Act (NEPA) responsibilities and obligations pursuant to a 23 U.S.C. 327 Memorandum of Understanding (MOU). The DOT&PF entered the NEPA Assignment Program ¹ after more than 8 years of experience making FHWA NEPA Categorical Exclusion (CE) determinations pursuant to 23 U.S.C. 326 (beginning September 22, 2009). Alaska's MOU was signed on November 3, 2017, and became effective on November 13, 2017. Three Federal-aid projects were excluded from the MOU, but the environmental process for these projects has since been completed. Currently, FHWA's NEPA responsibilities in Alaska include oversight and auditing of the DOT&PF's execution of the NEPA Assignment Program and certain activities excluded from the MOU such as projects advanced by direct recipient's other than DOT&PF.

¹ Throughout this report, FHWA uses the term “NEPA Assignment Program” to refer to the program codified at 23 U.S.C. 327 (Surface Transportation Project Delivery Program).

The FHWA audit team began preparing for the site visit in October 2018. This preparation included a review of DOT&PF's NEPA project files, DOT&PF's response to FHWA's pre-audit information request (PAIR), and consideration of DOT&PF's self-assessment summary report. The audit team completed the site visit for the second audit April 15-19, 2019.

The audit team appreciates DOT&PF's responsiveness to questions on the status of their corrective actions for the first audit non-compliance and general observations. This report concludes with a status update for FHWA's observations from the first audit report.

The audit team finds DOT&PF in substantial compliance with the terms of the MOU in meeting the responsibilities it has assumed. This report does not identify any non-compliance observations; it does identify six general observations as well as several successful practices.

Background

The NEPA Assignment Program allows a State to assume FHWA's environmental responsibilities for review, consultation, and compliance for highway projects. This program is codified at 23 U.S.C. 327. When a State assumes these Federal responsibilities for NEPA project decisionmaking, the State becomes solely responsible and solely liable for carrying out these obligations in lieu of and without further NEPA-related approval by FHWA.

The FHWA assigned responsibility for making project NEPA approvals and the responsibility for making other related environmental decisions for highway projects to DOT&PF on November 3, 2017, and became effective on November 13, 2017. The MOU specifies those FHWA responsibilities assigned to DOT&PF. Examples of responsibilities DOT&PF has assumed in addition to NEPA include Section 7 consultation under the Endangered Species Act (ESA) and consultation under Section 106 of the National Historic Preservation Act (NHPA).

This is the second of four required annual audits pursuant to 23 U.S.C. 327(g) and Part 11 of the MOU. Audits are the primary mechanism through which FHWA oversees DOT&PF's compliance with the MOU and the NEPA Assignment Program requirements. This includes ensuring compliance with applicable Federal laws and policies, evaluating DOT&PF's progress toward achieving the performance measures identified in Section 10.2 of the MOU, and collecting information needed for the Secretary's annual report to Congress. The FHWA must present the results of each audit in a report and make it available for public comment in the Federal Register.

The audit team included NEPA subject matter experts from FHWA offices in Juneau, Alaska; Washington, District of Columbia; Atlanta, Georgia; Sacramento, California; and Lakewood, Colorado.

Scope and Methodology

The audit team examined a sample of DOT&PF's NEPA project files, DOT&PF responses to the PAIR, and DOT&PF's Self-Assessment Summary report. The audit team also interviewed DOT&PF staff and reviewed DOT&PF policies, guidance, and manuals pertaining to NEPA responsibilities. All reviews focused on objectives related to the six NEPA Assignment Program elements: Program Management; Documentation and Records Management; Quality Assurance/Quality Control (QA/QC); Legal Sufficiency; Training; and Performance Measurement.

Project File Review: To consider DOT&PF staff adherence to program procedures and Federal requirements, the audit team selected a sample of individual project files for which the environmental review had been completed. The audit team did not evaluate DOT&PF's project-specific decisions, but rather compliance with assumed responsibilities and adherence to their own processes and procedures for project-level environmental decision making. The 43 sampled files included Programmatic CEs (actions approved in the Regional offices), CEs and Environmental Assessments (EAs) (approved in the Statewide Environmental Office (SEO)), and re-evaluations (approved by the same office as the original environmental document).

PAIR Review: The audit team reviewed the PAIR, which consisted of 61 questions about specific elements in the MOU that DOT&PF must implement. These responses were used to develop specific follow-up questions for the on-site interviews with DOT&PF staff.

DOT&PF Self-Assessment Review: The audit team reviewed DOT&PF's Self-Assessment summary report and used it to develop specific follow-up questions for the on-site interviews with DOT&PF staff. The NEPA Assignment Program MOU Section 8.2.5 requires the DOT&PF to conduct annual self-assessments of its QA/QC procedures and performance.

Interviews: The audit team conducted 18 on-site interviews and 1 phone interview with DOT&PF staff. Interviewees included staff from each of DOT&PF's three regional offices and its SEO. The audit team invited DOT&PF staff, middle management, and executive management to participate in interviews to ensure they represented a diverse range of staff expertise, experience, and program responsibility. In addition, the audit team conducted two phone interviews of attorneys with the Alaska Department of Law and three phone interviews with staff at the U.S. Fish and Wildlife Service (USFWS) Field Office in Anchorage and the Conservation Planning Assistance Branch in Fairbanks.

Policy/Guidance/Manual Review: Throughout the document reviews and interviews, the audit team verified information on DOT&PF's NEPA Assignment Program including DOT&PF policies, guidance, manuals, and reports. This included the Environmental Program Manual (EPM), the NEPA Assignment QA/QC Plan, the NEPA Assignment Program Training Plan, and the NEPA Assignment Self-Assessment Summary report.

Overall Audit Opinion

This report identifies six observations and several successful practices. The audit team finds DOT&PF is substantially in compliance with the provisions of the MOU, has carried out the environmental responsibilities it assumed through the NEPA Assignment Program, and is taking steps to address observations identified in the first audit.

Non-Compliance Observations

The audit team made no non-compliance observations in the second audit.

Observations and Successful Practices

This section summarizes the audit team's observations of DOT&PF's NEPA Assignment Program implementation, and successful practices DOT&PF may want to continue or expand. The audit team has observations which DOT&PF may use to improve processes, procedures, or outcomes. The DOT&PF may have already taken steps to address or improve upon the audit team's observations, but at the time of the audit they appeared to be areas where DOT&PF could make improvements. Successful practices are positive results that FHWA would like to commend DOT&PF on developing. These may include ideas or concepts that DOT&PF has planned but not yet implemented. Successful practices and observations are described under the six MOU topic areas: Program Management, Documentation and Records Management, QA/QC, Training Program, Performance Measures, and Legal Sufficiency.

This audit report provides an opportunity for DOT&PF to take further actions to improve their program. The FHWA will consider the status of areas identified for potential improvement in this audit's observations as part of the scope of the third audit. The third audit report will include a summary discussion that describes progress since this audit.

Program Management

Program Management includes the overall administration of the NEPA Assignment Program. The audit team noted the following successful practices and observations related to Program Management.

Successful Practices

Based on interviews, DOT&PF plans to update the entire EPM on a 2-year cycle. The SEO indicated that in the interval between EPM updates, topic-specific memoranda would be developed in collaboration with the regional DOT&PF offices to address guidance, policy, or procedure change in advance of the 2020 EPM revision.

The FHWA acknowledges DOT&PF's current efforts to develop guidance memoranda in the following areas:

• Floodplains: The DOT&PF identified the need for additional floodplain guidance. The audit team observed that the SEO and some regional staff have varying expectations regarding analysis of floodplain encroachments and QA/QC requirements. The DOT&PF is encouraged to revise the EPM to clarify what technical analyses and reports may be required as part of complete project documentation, particularly in the context of hydraulic analyses.

• Planning and Environment Linkage (PEL): The DOT&PF has issued a request for proposals for a consultant to develop PEL guidance. The audit team found PEL studies were evaluated as actions needing a NEPA review, however PEL studies are not subject to NEPA. The audit team learned through interviews that DOT&PF have several ongoing PEL studies, so guidance will be timely.

The audit team, through its interviews, noted successful DOT&PF collaboration with the USFWS, the National Marine Fisheries Service (NMFS), and the State Historic Preservation Office (SHPO). The SEO leadership stated that agencies are engaged to maintain and improve relationships.

• Interviews with USFWS staff confirmed that USFWS has a good working relationship with DOT&PF. Both DOT&PF regional staff and USFWS desire to have more regular meetings to further improve relationships and accelerate project delivery. Examples of discussion topics include: Developing best management practices, discussing programmatic approaches, and improving scoping documents.

• The DOT&PF Self-Assessment Summary report describes the SEO coordination with NMFS to clarify procedures for biological opinions and has issued a guidance memo to DOT&PF regional offices.

• The SEO and regional Section 106 subject matter experts collaborate with SHPO on concerns, challenges, and compliance issues.

Observation #1: Applicability of Existing Interagency Agreements

Section 5.1.3 of the MOU requires the DOT&PF to work with FHWA and the resource agencies to modify existing interagency agreements within 6 months of the effective date of the MOU. The audit team recognizes that the four different resource agencies' (U.S. Army Corps of Engineers, NMFS, USFWS, and U.S. Soil Conservation Service (now Natural Resources Conservation Service)) Programmatic Agreements (PA) that were executed in 1985 have not been applicable since the DOT&PF implemented the CE Assignment program (23 U.S.C. 326) in 2009. Therefore, none of these agreements apply to the current NEPA Assignment Program under 23 U.S.C. 327. The DOT&PF staff may find it useful to meet with all its resource agency partners to clarify their role under the NEPA Assignment Program. Also, if DOT&PF chooses to enter into interagency agreements per Section 5.1.4 of the MOU, DOT&PF may develop provisions that make the program more efficient and clarify the State's role as decisionmaker.

Observation #2: DOT&PF Delegation of Authority for NEPA Approvals

Section 3.3.1 of the MOU requires DOT&PF to make NEPA approvals (CE determinations, findings of no significant impact, or records of decision). Project file reviews and interviews conducted for this audit revealed inconsistencies regarding the delegation of NEPA approvals within DOT&PF. Although interviews with SEO staff indicated SEO has a written blanket delegation of signature authority for the office, interviews with DOT&PF regional offices revealed variability in procedures for Regional Environmental Managers (REMs) to delegate their approval authority. Some of the project files the team reviewed contained emails that addressed the delegation of approval authority for that project while other project files did not. The review team encourages DOT&PF to review and standardize its procedures for delegation of authority for NEPA approvals to clarify approval responsibility and minimize risk of individuals making NEPA approvals without authorization.

Observation #3: Staff Capacity

Sections 4.2.1. and 4.2.2. of the MOU outline the requirements for the State's commitment of resources and adequate organizational and staff capability. The audit team learned through interviews that SEO and some regional offices have had moderate to high staff turnover since the MOU took effect. Several of the recent SEO leadership staff have retired or been promoted. This issue is a recurrence from Audit #1 (see Audit #1, report Observation #3). Under the MOU, DOT&PF must maintain “adequate” organizational and staff capability, including appropriate environmental, technical, legal, and managerial expertise to perform its assumed responsibilities under this MOU and applicable Federal laws. Although any determination of adequacy is a challenge given the expectation for normal staff turnover, DOT&PF could consider monitoring the State's requirement under the MOU to maintain organizational and staff capacity, as well as potential staff adequacy risks to the program. We encourage DOT&PF leadership to assess the adequacy of organizational and staff capacity annually. This assessment would help the State demonstrate that DOT&PF is actively evaluating its commitment of resources with respect to this MOU requirement.

Documentation and Records Management

From March 1, 2018, through October 30, 2018, DOT&PF made 161 project decisions (e.g., Section 4(f) approvals) and NEPA approvals. By employing both judgmental and random sampling methods, the audit team reviewed NEPA project documentation for 43 of these decisions/approvals.

Observation #4: Documentation of Environmental Commitments

Section 5.1.1 of the MOU requires the State to follow Federal laws, regulations, policy, and procedures to implement the responsibilities assumed. Project file reviews and interviews conducted for this audit revealed inconsistencies regarding how DOT&PF documents environmental commitments and ensures that environmental commitments made during the NEPA process are carried through the project development process and into construction. Interviews with DOT&PF regional offices and SEO contained specific questions about environmental commitments. Reponses revealed varying regional office staff opinions regarding Environmental Impact Analyst (Analyst) and REM responsibilities related to commitments and SEO concern with the transference process from NEPA through design and into construction. To address an issue with environmental commitments identified in an earlier program review by the Alaska Division, DOT&PF developed a short-term corrective action to prepare written guidance that would be implemented no later than December 31, 2018. This written guidance has been drafted, but not implemented as of April 15-19, 2019, the week of the audit site visit.

Quality Assurance/Quality Control

Under the MOU, DOT&PF agreed to carry out regular QA/QC activities to ensure the assumed responsibilities are conducted in accordance with applicable law and the MOU. The audit team noted the following successful practices and observations related to QA/QC.

Successful Practices

Analysts in the DOT&PF south coast region have a role in the QA/QC process, as they conduct peer reviews of the documentation in their project files. This encourages consistency in the project review process among Analysts and functions as a valuable training opportunity so that all Analysts can recognize errors and omissions.

The REMs and SEO staff stated that collaboration among regional staff, SEO, and legal staff during development of draft environmental documents, where it occurred, improved document quality. Further, they stated this reduced the number of errors found during formal QA/QC and when reviewing project files during DOT&PF's Self-Assessment.

Once DOT&PF implements its Comprehensive Environmental Data and Reporting (CEDAR) System, DOT&PF stated that the system should eliminate inconsistencies in project name, project identifiers and environmental documentation which DOT&PF also identified as a potential issue in its Self-Assessment Summary report. By transferring project information from another State system, CEDAR should provide a system control that enhances data integrity.

Observation #5: Inconsistency in Project Termini and Statewide Transportation Improvement Program (STIP)

Section 3.3.1 of the MOU requires DOT&PF, at the time of NEPA approval (CE determination, finding of no significant impact, or record of decision), to ensure that the project's design concept, scope, and funding is consistent with current planning documents. The audit team's document review of a sample of projects found one project file with an inconsistency between project termini shown in a project plan and that described in the STIP. The DOT&PF's Self-Assessment found similar inconsistencies. This was observed both for programmatic CEs (approved at the Region level) and non-programmatic CEs (approved at the SEO level) that are required to undergo a QC review by REMs in accordance with Section 3.3.2 of the EPM. To help eliminate these types of inconsistencies, DOT&PF may want to consider providing additional tools to REMs for use when approving environmental documents, such as a checklist of items to be verified.

Training

Under Part 12 of the MOU, DOT&PF committed to implementing training necessary to meet its environmental obligations assumed under the NEPA Assignment Program. The DOT&PF also committed to assessing its need for training, developing a training plan, and updating the training plan on an annual basis in consultation with FHWA and other Federal agencies as appropriate.

Successful Practices

The SEO worked with a consultant to customize an advanced NEPA training based on the Alaska NEPA Assignment Program to make it specific for issues typically encountered in Alaska.

The DOT&PF south coast region uses a memorandum to serve as a part of all new employee's orientation and as a precursor to more formal training. The REM issues it to all new Analysts. This memorandum outlines to whom the new employees should talk in their first 2 weeks to help firmly establish relationships and gain an overview of environmental program components.

All DOT&PF regional offices implement individual coaching and on-the-job training practices, which are important mechanisms by which Analysts, especially new Analysts, acquire some of the knowledge and skills necessary to perform their job functions.

Observations:

Observation #6: Training Plan Update

Section 12.2 of the MOU commits DOT&PF and FHWA to update the DOT&PF training plan annually in consultation with other Federal agencies as appropriate. The DOT&PF's Training Plan had not yet been updated as of the date of the site visit. The audit team encourages the State to re-evaluate its entire plan for training in light of its budget limitations, so that there is a realistic means of delivering necessary training, especially for new staff. The State may consider further leveraging its Web-based training capabilities to meet training needs.

Performance Measures

The MOU's inclusion of performance measures for the DOT&PF to develop and track progress fits well within FHWA's overall approach to have programs define specific goals that could be measured by existing data or by combinations or indexes of existing data. For example, in recent years, FHWA has promulgated performance measure requirements in support of National Performance Management for freight programs (January 18, 2017), pavement and bridge condition (January 18, 2018), as well as for FHWA's Offices of Safety (March 15, 2016), and Operations (May 2012). In each of these cases, as well as for the FHWA Strategic Plan, there is a requirement for the development and definition of objectives/goals and indicators/measures of overall program performance.

According to Part 10 of the MOU, DOT&PF will report its progress toward meeting its performance measures in the self-assessment summary that is considered by FHWA's audit team. The January 2019 DOT&PF Self-Assessment Summary report identified 13 performance measures for which 2 could not be reported upon due to lack of baseline, and 4 measures were based on one approved EA project. Therefore, almost half of the performance measures could not be reported because either no baseline for comparison was developed or the measure was constrained to apply only to EA or Environmental Impact Statement (EIS) projects, even though more than 95 percent of NEPA approvals were CEs.

Legal Sufficiency

During the audit period, one attorney from the Alaska Department of Law (DOL) Transportation Section continued to be assigned to the NEPA Assignment Program. The assigned attorney has significant experience with Federal-aid highway projects and the Federal environmental process. The attorney works directly with DOT&PF staff on project environmental documents. Based on the interviews, the review process followed the standard set forth in the EPM, with the attorney involved early in project development, normally reviewing NEPA documents prior to their circulation to resource agencies for comment. During the audit period, the attorney reviewed three EAs and multiple re-evaluations of an older EIS. The attorney did not issue a formal finding of legal sufficiency during the audit period, as he did not review a Final EIS or Section 4(f) Evaluation (per 23 CFR 771.125[b] or 774.7[d]) during that time.

The DOL management stated that while only one attorney is currently assigned to the program, should workload increase significantly, DOL would assign another attorney to NEPA work.

Status of Observations From Audit #1 (April 2018)

This section describes the actions DOT&PF has taken (or is taking) in response to audit observations, including non-compliance observations made during the first audit. Any non-compliance observations require DOT&PF to take corrective action.

Non-Compliance Observation #1: Ensure an Opportunity for a Public Hearing is Provided When Required. The DOT&PF responded that FHWA's non-compliance observation was made prior to the completion of the DOT&PF's EPM (February 2018). Based on the current edition of the EPM, the requirements for public hearing based on project type are adequately documented and no additional instances of non-compliance were found by the audit team during the second audit. The FHWA has found the corrective action to be satisfactory in addressing the non-compliance observation.

Observation #1: Programmatic Section 106 compliance and Section 4(f) compliance. The DOT&PF recognized possible risk in applying its Section 106 programmatic agreement (PA) to projects that require integration of the Section 106 process with Section 4(f) requirements. To address this risk, SEO consulted with SHPO and created a letter of agreement to provide DOT&PF's notification to SHPO of the intent to make a de minimis determination on a project processed under the Section 106 PA as a streamlined review/programmatic allowance. In this audit, the team did not identify instances where the streamlined Section 106 form had been used to support a Section 4(f) use.

Observation #2: Lack of a Process to Implement Planning Consistency at Time of a NEPA Decision. In response to this observation, DOT&PF stated that the project manager is responsible to review and document the availability of funding per Section 420.1.1 of the Preconstruction Manual and that this information is communicated to environmental staff through Section 1.1.1 of the EPM. The DOT&PF also referenced Section 1.3.1 of the EPM in supporting the planning consistency requirements. However, the audit team found an inconsistency regarding a project's termini as shown in a project plan and how that project was described in the STIP. This was identified as an observation in this audit (Observation #5). The audit team recognizes that DOT&PF's manuals offer general guidance, but may want to consider providing additional tools to REMs for use when approving environmental documents, such as a checklist of items to be verified to ensure consistency with transportation plans.

Observation #3: Staff Capacity, Workload, and Turnover. During Audit #1, several DOT&PF staff explained through interviews, that since the State's entry into the full NEPA Assignment Program, staff's required review and documentation efforts dramatically increased, and because of the increased workload, the region office did not have sufficient resources to manage the workload associated with the NEPA Assignment Program. The DOT&PF stated as part of its responses for this audit that it has adequate staffing, continually monitors the number of environmental documents in development, and discusses regional workloads during the weekly NEPA manager's meetings. Through interviews, the team learned that if an individual region experiences an unusually large workload and reports it to SEO, projects would be distributed among NEPA managers. However, based on interviews conducted for this audit, workload for some staff remains a concern.

Observation #4: Government-to-Government Consultation Protocol. The DOT&PF has committed to conducting tribal consultation in its program Section 106 PA. The DOT&PF's EPM also identifies a process for coordinating with tribes that is sensitive to any request for Government-to-Government consultation. The DOT&PF leadership indicated that staff have received training, and is using monthly Cultural Resources Team (CRT) meetings to increase staff understanding of the Government-to-Government process.

Observation #5: Section 106 Compliance and Effect Determination. The DOT&PF examined and corrected the project-specific issues. It also indicated that it held a Section 106 training for environmental analysts in June of 2018, created specifically for Alaska DOT&PF by a consultant with input from SEO staff. The cross-regional CRT, which includes the SHPO office DOT&PF liaison, meets on a monthly basis to discuss Section 106 procedures and compliance. The CRT was recognized by the DOT&PF Commissioner during the last audit year for outstanding team performance.

Observation #6: Identify QC staff roles and responsibilities in the DOT&PF's QA/QC Plan. The DOT&PF has defined the roles of the Project Development Team members in the EPM manual and QA/QC Plan (EPM Sections 4.3, 5.4, 11.3, and 11.4) when project development teams are used.

Observation #7: Consider ways to accommodate training needs and timely delivery. The DOT&PF has hired consultants to develop interactive online training, and deliver in-person training to the regional offices. In-person training was conducted in June, October, November of 2018, and February 2019. This training included Section 106, Section 4(f), and the Alaska National Interest Lands Conservation Act. In addition, training is being offered in multiple formats: Manual review including the EPM, online courses, on-the-job training, and mentoring.

Next Steps

The FHWA provided this draft audit report to DOT&PF for a 14-day review and comment period. The audit team considered DOT&PF comments in developing this draft audit report. The FHWA will publish a notice in the Federal Register for a 30-day comment period in accordance with 23 U.S.C. 327(g). No later than 60 days after the close of the comment period, FHWA will respond to all comments submitted to finalize this draft audit report pursuant to 23 U.S.C. 327(g)(2)(B). The FHWA will publish the final audit report in the Federal Register.

[FR Doc. 2020-02794 Filed 2-11-20; 8:45 am]

BILLING CODE 4910-22-P